DEPARTMENT OF JUSTICE

Notice of Lodging of Consent Decrees Pursuant to the Comprehensive Environmental Response, Compensation, and Liability Act

In accordance with Departmental policy, notice is hereby given that on January 8, 2003, three proposed consent decrees in the case captioned Dow Chemical Co., et al. v. Acme Wrecking Co., Inc., et al., Civil Action Nos. C-1-97-0307, C-1-97-0308, and C-1-01-439-(S.D. Ohio), were lodged with the United States District Court for the Southern District of Ohio. The proposed, de minimis consent decrees relate to the Skinner Landfill Superfund Site (“Site”) in West Chester, Ohio. The proposed consent decrees would resolve civil claims of the United States for response actions and for the recovery of response costs at the Site under Sections 106 and 107(a) of the Comprehensive Environmental Response, Compensation, and Liability Act, as amended, 42 U.S.C. 9606, 9607(a), against Aeronca, Inc. (“Aeronca”), Martin E. Clarke, Clarke Sanitary Landfill, Clarke Container, Inc., Clarke's Incinerators, Inc. (the “Martin Clarke Entities”), Richard M. Clarke, Clarke's Complete Collection, Dick Clarke Co., Dick Clarke Trash Removal and Demolition, Clarke's Services, Inc., and Clarke, Inc. (the “Dick Clarke Entities”) (collectively “Settling Defendants”). Under the proposed consent decree with Aeronca, Aeronca would pay the United States $232,500 and would pay the parties that are performing the work at the Site (the “Skinner Landfill Site Group”) $232,500. Under the proposed consent decree with the Martin Clarke Entities, the Martin Clarke Entities would pay the United States $88,000 and would pay the Skinner Landfill Site Group $88,000. Under the proposed consent decree with the Dick Clarke Entities, the Dick Clarke Entities would pay the United States $100,500, and would pay the Skinner Landfill Site Group $25,500.

The Department of Justice will receive, for a period of thirty (30) days from the date of this publication, comments relating to the proposed consent decrees. Comments should be addressed to the Assistant Attorney General of the Environment and Natural Resource Division, Department of Justice, Washington, DC 20530, and should refer to Dow Chemical Co. et al. v. Acme Wrecking Co., Inc. et al., Civil Action Nos. C-1-97-0307, C-1-97-0308, and C-1-01-439 (S.D. Ohio), and DOJ Reference No. 90-11-3-1620/2.

The proposed consent decrees may be examined at: (1) The Office of the United States Attorney for the Southern District of Ohio, 221 E. Fourth St., Suite 400, Cincinnati, Ohio 45202 and (2) the United States Environmental Protection Agency (Region 5), 77 West Jackson Boulevard, Chicago, Illinois 60604-3590. Copies of the proposed consent decrees may be obtained by mail from the Department of Justice Consent Decree Library, P.O. Box 7611, Washington, DC 20044. In requesting copies, please refer to the above-referenced case and DOJ Reference Number and enclose a check for $9.50 (38 pages at 25 cents per page reproduction cost) for the Consent Decree with Aeronca, $9.00 (36 pages) for the Consent Decree with the Martin Clarke Entities, and/or $8.50 (34 pages) for the Consent Decree with the Dick Clarke Entities, made payable to the Consent Decree Library.

William D. Brighton,
Assistant Section Chief, Environmental Enforcement Section, Environment and Natural Resources Division.

[FR Doc. 03-897 Filed 1-15-03; 8:45 am]

BILLING CODE 4410-15-M